DEPARTMENT OF THE INTERIOR

Bureau of Land Management

[WY-06-00-1220-EA]

Trail Use Restrictions

AGENCY: Bureau of Land Management, Interior.

ACTION: Restriction of uses on the Muddy Mountain Interpretive Nature Trail in the Muddy Mountain Environmental Education Area, Natrona County, Wyoming.

SUMMARY: Notice is hereby given that the following restrictions are placed on using the Muddy Mountain Interpretive Nature Trail:

a. All mechanized and motorized transportation devices are prohibited from using the trail. Examples include bicycles, all-terrain vehicles, passenger vehicles, and snowmobiles.

b. Horses are prohibited from using the trail.

c. Exemptions: The following persons are excluded from these prohibitions: (1) Handicapped persons using wheelchairs and similar devices are permitted to use the devices on the trail; (2) Strollers; (3) Federal, State and local emergency personnel and BLM employees while performing their official duties; and, (4) any person expressly authorized in writing by the Field Manager, Casper Field Office.

d. These restrictions are in effect year-round.

Penalties: Any person who fails to comply with the provisions of this notice may be subject to penalties outlined in 43 CFR 8360.0-7.

EFFECTIVE DATE: June 1, 2000.

FOR FURTHER INFORMATION CONTACT: Don Whyde, Assistant Field Manager Resources, Casper Field Office, Bureau of Land Management, 2987 Prospector Drive, Casper, WY 82604. Telephone: 307-261-7600.

SUPPLEMENTARY INFORMATION: These trail restrictions are established in accordance with Environmental Assessment Number WY-062-EA-99-114 (Muddy Mountain Environmental Education Area, August 1999), and the Record of Decision and Finding of No Significant Impact, dated February 2, 2000.

The Muddy Mountain Interpretive Nature Trail was built as a handicapped accessible trail. In order for the trail to be maintained in good condition, it is necessary to restrict certain uses. Excessive use by any of the prohibited devices would cause rapid deterioration of the trail and its effectiveness as a handicapped accessible trail.

Dated: May 31, 2000.
James K. Murkin,
Field Manager.

[FR Doc. 00-14646 Filed 6-8-00; 8:45 am]

BILLING CODE 4310-22-P